SECURITIES AND EXCHANGE COMMISSION

[Release No.: 34-100264]

Public Availability of the Securities and Exchange Commission's Fiscal Year (FY) 2021 Service Contract Inventory

AGENCY: Securities and Exchange Commission.

ACTION: Notice.

SUMMARY: In accordance with section 743 of division C of the Consolidated Appropriations Act of 2010, the SEC is publishing this notice to advise the public of the availability of the FY2021 Service Contract Inventory (SCI) along with the FY2022 SCI Planned Analysis.

FOR FURTHER INFORMATION CONTACT: Direct questions regarding the service contract inventory to Vance Cathell, Director Office of Acquisitions 202.551.8385 or CathellV@sec.gov.

SUPPLEMENTARY INFORMATION:

The SCI provides information on FY2021 actions over $150,000 for service contracts. The inventory organizes the information by function to show how SEC distributes contracted resources throughout the agency. The SEC developed the inventory per guidance issued by the Office of Management and Budget's Office of Federal Procurement Policy (OFPP).

The SCI Analysis for FY2021 provides information based on the FY 2021 Inventory. Please note that the SEC's FY 2021 Service Contract Inventory data is now included in government-wide inventory available on https://www.acquisition.gov. The government-wide inventory can be filtered to display the inventory data for the SEC. The SEC has posted the FY 2021 SCI Analysis and its FY 2022 plans for analyzing data on the SEC's homepage at https://www.sec.gov/about/secreports.shtml and https://www.sec.gov/open.

Dated: June 4, 2024.
Vanessa A. Countryman,
Secretary.

[FR Doc. 2024-12527 Filed 6-6-24; 8:45 am]

BILLING CODE 8011-01-P